DEPARTMENT OF HOMELAND SECURITY

Coast Guard

[CGD09-04-021]

Great Lakes Regional Waterways Management Forum

AGENCY: Coast Guard, DHS.

ACTION: Notice of meeting.

SUMMARY: “The Great Lakes Regional Waterways Management Forum” will hold a meeting to discuss various waterways management issues. Agenda items will include navigation; maritime security issues including the implementation of Marine Transportation Security Act (MTSA) and the International Ship and Port Facility Security (ISPS) Code; waterways management; ballast water regulation; and discussions about the agenda for the next meeting. The meeting will be open to the public.

DATES: The meeting will be held on June 15, 2004, from 12 p.m. to 4 p.m. and on June 16 from 8:30 a.m. to 12 p.m. Comments must be submitted on or before June 15, 2004 to be considered at the meeting.

ADDRESSES: The meeting will be held in the U.S. Coast Guard Club located on the U.S. Coast Guard Moorings, 1055 East Ninth Street, Cleveland, OH 44199. Any written comments and materials should be submitted to Commander (map), Ninth Coast Guard District, 1240 E. Ninth Street, Room 2069, Cleveland, OH 44199.

FOR FURTHER INFORMATION CONTACT: CDR Michael Gardiner (map), Ninth Coast Guard District, OH, telephone (216) 902-6049. Persons with disabilities requiring assistance to attend this meeting should contact CDR Gardiner.

SUPPLEMENTARY INFORMATION: The Great Lakes Waterways Management Forum identifies and resolves waterways management issues that involve the Great Lakes region. The forum meets twice a year to assess the Great Lakes region, assign priorities to areas of concern and identify issues for resolution. The forum membership has identified agenda items for this meeting that include: Navigation; maritime security issues including the implementation of the MTSA and ISPS Code; waterways management; ballast water regulation; and discussions about the agenda for the next meeting. Additional topics of discussion are solicited from the public.

Dated: June 4, 2004.
R.J. Papp, Jr.,
Rear Admiral, U.S. Coast Guard, Commander, Ninth Coast Guard District, Cleveland, Ohio.

[FR Doc. 04-13380 Filed 6-9-04; 11:17 am]

BILLING CODE 4910-15-M